DEPARTMENT OF HEALTH AND HUMAN SERVICES

Centers for Disease Control and Prevention

[30Day-09-0314]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC, or by fax to (202) 395-6974. Written comments should be received within 30 days of this notice.

Proposed Project:

The National Survey of Family Growth (NSFG), (0920-0314)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on “family formation, growth, and dissolution,” as well as “determinants of health” and “utilization of health care” in the United States. This three-year clearance request includes the data collection in 2009-2012 for the continuous NSFG. The major change in this revision is an increase in the burden hours. This is due to the fact that the 2006 clearance contained a small pretest and two years of the full survey. This submission contains three years of the full survey which causes an increase in burden. No questionnaire changes are requested through 2010; some limited changes may be requested after that, to be responsive to emerging public policy issues.

The National Survey of Family Growth (NSFG) was conducted periodically between 1973 and 2002, and continuously since 2006, by the National Center for Health Statistics, CDC. Each year, about 14,000 households are screened, with about 5,000 participants interviewed annually. Participation in the NSFG is completely voluntary and confidential. Interviews average 60 minutes for males and 80 minutes for females. The response rate since 2006 is about 75 percent for both males and females.

The NSFG program produces descriptive statistics which measure factors associated with birth and pregnancy rates, including contraception, infertility, marriage, divorce, and sexual activity, in the U.S. population 15-44; and behaviors that affect the risk of sexually transmitted diseases (STD), including HIV, and the medical care associated with contraception, infertility, and pregnancy and childbirth.

NSFG data users include the DHHS programs that fund it, including CDC/NCHS and seven others (The Eunice Kennedy Shriver National Institute for Child Health and Human Development (NIH/NICHD); the Office of Population Affairs (DHHS/OPA); the Office of the Assistant Secretary for Planning and Evaluation (DHHS/OASPE); the Administrations for Children and Families; the Children's Bureau (DHHS/ACF/CB); the CDC's Division of HIV/AIDS Prevention (CDC/DHAP); the CDC's Division of STD Prevention (CDC/DSTD); and the CDC's Division of Reproductive Health (CDC/DRH)). The NSFG is also used by state and local governments; private research and action organizations focused on men's and women's health, child well-being, and marriage and the family; academic researchers in the social and public health sciences; journalists, and many others.

There is no cost to respondents other than their time. The total estimated annualized burden hours are 7,442.

Estimated Annualized Burden Table
Respondents/instruments | Number of responses | Number of responses per respondent | Average burden per response (in hours)
Household Screener | 14,000 | 1 | 3/60
Female Interview | 2,750 | 1 | 1.5
Male Interview | 2,250 | 1 | 1
Female and Male Verification questionnaire | 1,400 | 1 | 5/60
Female and Male Testing questions | 250 | 1 | 1

Dated: February 27, 2009.
Maryam I. Daneshvar,
Acting Reports Clearance Officer, Office of the Chief Science Officer, Centers for Disease Control and Prevention.

[FR Doc. E9-4985 Filed 3-9-09; 8:45 am]

BILLING CODE 4163-18-P